DEPARTMENT OF HEALTH AND HUMAN SERVICES

Centers for Disease Control and Prevention

Decision To Evaluate a Petition To Designate a Class of Employees From the Reduction Pilot Plant in Huntington, West Virginia, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from the Reduction Pilot Plant in Huntington, West Virginia, to be included in the Special Exposure Cohort under the Energy Employees Occupational Illness Compensation Program Act of 2000.

FOR FURTHER INFORMATION CONTACT: Grady Calhoun, Director, Division of Compensation Analysis and Support, National Institute for Occupational Safety and Health, 1090 Tusculum Avenue, MS C-46, Cincinnati, OH 45226-1938, Telephone 513-533-6800. Information requests can also be submitted by email to DCAS@CDC.GOV.

SUPPLEMENTARY INFORMATION: Pursuant to 42 CFR 83.12, the initial proposed definition for the class being evaluated, subject to revision as warranted by the evaluation, is as follows:

Facility: Reduction Pilot Plant.

Location: Huntington, West Virginia.

Job Titles and/or Job Duties: All security guards who worked in any area of the RPP.

Period of Employment: June 7, 1976 through November 26, 1978.

Authority: 42 CFR 83.9-83.12.

Frank J. Hearl,
Chief of Staff, National Institute for Occupational Safety and Health.

[FR Doc. 2019-27780 Filed 12-23-19; 8:45 am]

BILLING CODE 4163-18-P